DEPARTMENT OF DEFENSE

Department of the Navy

Notice of Deadline for Submission of Donation Applications for the ex-CHARLES F. ADAMS (DDG 2)

AGENCY: Department of the Navy, DoD.

ACTION: Notice.

SUMMARY: The Department of the Navy (DON) hereby gives notice of the receipt of one application for the donation of the guided missile destroyer ex-CHARLES F. ADAMS (DDG 2), located at the NAVSEA Inactive Ships On-site Maintenance Office, Philadelphia, PA, and the deadline for submission of additional applications for the ship.

DATES: The deadline for submission of additional applications is January 30, 2009.

FOR FURTHER INFORMATION CONTACT: Ms. Gloria Carvalho of the Naval Sea Systems Command, Navy Inactive Ships Program (PMS 333), telephone number: 202-781-0485. Ship donation applications and other mailed correspondence should be addressed to: The Columbia Group, 1201 M Street SE., Suite 010, Washington, DC 20003; marked for Ms. Gloria Carvalho (PMS 333).

SUPPLEMENTARY INFORMATION: Under the authority of 10 U.S.C. Section 7306, eligible recipients for the transfer of a vessel for donation include: (1) Any State, Commonwealth, or possession of the United States or any municipal corporation or political subdivision thereof; (2) the District of Columbia; or (3) any organization incorporated as a non-profit entity under section 501 of the Internal Revenue Code.

The transfer of a vessel for donation under 10 U.S.C. Section 7306 shall be at no cost to the United States Government.

The donee will be required to maintain the vessel as a static display in a condition that is satisfactory to the Secretary of the Navy.

Qualified organizations must submit a complete application to the DON by January 30, 2009, comprised of a business/financial plan, a technical plan (includes a towing plan, mooring plan, maintenance plan and environmental plan), a curatorial/museum plan, and a community support plan (includes information concerning support from the community and benefit to the DON).

Complete application requirements are available on the DON Ship Donation Web page located at: http://peoships.crane.navy.mil/donation/.

The application must address the following areas:

a. Business/Financial Plan: The Business/Financial Plan must provide detailed evidence of firm financing to offset all costs associated with the donation including: mooring, towing, environmental surveys and cleanup, dredging, museum development, maintenance, refurbishment of the vessel, pier, insurance, legal services, etc. Firm financing is defined as available money to ensure the first five years of operation and future stability of the museum for long-term operation.

This can include pledges, loans, gifts, bonds (except revenue bonds), funds on deposit at a financial institution, or any combination of the above. The business/financial plan must include start-up costs (all costs incurred before opening) and operating & support costs for the first five years of operation. The applicant must also provide income projections from sources such as individual and group admissions, facility rental fees, and gift shop revenues sufficient to cover the estimated operating expenses.

The plan should also include a detailed marketing plan with visitor projections and demographic information to support the business and financial plan. In addition, the applicant should provide evidence that planning and resources are in place for disposition of the vessel in the event of bankruptcy or inability to properly maintain the vessel.

b. Technical: The technical plan is comprised of a Towing Plan, Mooring Plan, Maintenance Plan, and Environmental Plan.

The Towing Plan describes how the vessel will be prepared for tow and safely towed from its present location to the permanent display site proposed by the applicant. The applicant must provide a detailed Towing Plan that complies with all applicable U.S. Navy Tow Manual requirements, which can be found at http://www.supsalv.org/pdf/towman.pdf.

The Towing Plan must address ship stability, flooding alarms, dewatering procedures, watertight integrity, condition of propellers and rudders, trim/drafts, boarding crew preparation, tug arrangement, tow route, emergency anchoring system, harbor assist/pilotage, schedule/timeline current tidal condition, weather contingencies, emergency procedures, primary and secondary tow vessels (padeye/pendant/jewelry).

The Mooring Plan describes how the vessel will be secured at a permanent, long-term mooring location that is acceptable to the Navy. A permanent mooring design must be capable of withstanding a 100-year storm condition without damage to the ship, its mooring system or neighboring facilities. The applicant must provide evidence of availability (at least 10 years) of a facility for permanent mooring of the vessel, either by ownership, existing lease, or by letter from the facility owners indicating a statement of intent to utilize such facilities.

Address any requirement to obtain site-specific permits and/or municipality approvals required for the facility, to include, but not limited to, Port Authority and Army Corps of Engineers approvals/permits, where required. The Mooring Plan should include all necessary information and calculations to assure that the ship will be safely moored, including: details of ship characteristics, design criteria for the site, soils data, bathymetric data, existing conditions, engineering drawings/sketches, calculations of wind and current forces/moments, and cost estimates. The mooring location must be acceptable to the DON and not obstruct or interfere with navigation.

The Environmental Plan describes how the applicant will comply with all Federal, State, and local environmental and public health and safety regulations and permit requirements. The applicant must demonstrate an understanding of environmental requirements and provided detailed information and supporting documents in the following areas: hazardous material; endangered species; dredging disposal; CB handling, removal and Compliance Agreements with EPA; and any other permits that may be required.

The Plan must address current environmental conditions and any change to those conditions that may result from establishing a permanent vessel museum/memorial at the proposed site. Detailed information on Environmental Plan requirements can be found at http://peoships.crane.navy.mil/Inactiveships/Donation/pdf/environmental_plan_requirements.pdf.

The Maintenance Plan must describe plans for long-term and short-term maintenance of the vessel, including preservation and maintenance schedule, composition and qualification of professional maintenance staff, cathodic protection system installation, Dry-docking Plan, Underwater Hull Inspection Plan, Fire/Flood/Intrusion Alarm Plan, Emergency Response Plan, Pest Control Plan, and Security Plan.

c. The Curatorial/Museum Plan includes two parts: a Curatorial Plan and a Historic Management Plan. The Curatorial Plan must describe the qualifications for a professional curator (and curator staff, if necessary), including resume or job announcement with prior museum experience and education. The plan must describe how the museum will collect and manage artifacts, including a statement of purpose and description of access, authority, and collection management responsibilities/activities.

The Historic Management Plan must describe the historical context in which the ship will be displayed, as the primary artifact; vessel restoration plans; the historical subject matter which will be dealt with in the exhibits; and tentative exhibits plan.

d. The Community Support Plan must include evidence of local support and regional support. This includes letters of endorsement from adjacent communities and counties, cities, or States. Also describe how the location of the vessel will encourage public visitation and tourism, become an integral part of the community, and how the vessel will enhance community development. The Community Support Plan must also describe the benefit to the DON, including, but not limited to, addressing how the applicant may support DON recruiting efforts, the connection between the DON and the proposed berthing location, how veterans' associations in the area are willing to support the vessel, how the applicant will honor veterans' contributions to the United States, and how the exhibit will commemorate those contributions and showcase Naval traditions.

The relative importance of each area that must be addressed in the donation application is as follows: Business/Financial Plan and Technical Plan are the most important criteria and are equal in importance. Within the Technical Plan, the Mooring Plan is of greatest importance, and the Towing Plan, Maintenance Plan, and Environmental Plan are individually of equal importance but of lesser importance to the Mooring Plan. The Curatorial/Museum Plan and Community Support Plan are of equal importance, but of lesser importance than the aforementioned plans.

Evaluation of applications received by the due date will be performed by the DON to ensure applications are compliant with the minimum acceptable application criteria and requirements. In the event of multiple compliant applications for the same vessel, the DON will perform a comparative evaluation of the applications to determine the best-qualified applicant. The adjectival ratings to be used for each criterion include: Outstanding, Good, Satisfactory, Marginal, and Unsatisfactory. The Secretary of the Navy, or his designee, will make the final donation decision.

The complete application must be submitted in hard copy and electronically on a CD-ROM to the Navy Inactive Ships Program office by January 30, 2009. Mailing address: The Columbia Group, 1201 M Street SE., Suite 010, Washington, DC 20003; marked for Ms. Gloria Carvalho (PMS 333).

Dated: June 26, 2008.
T.M. Cruz,
Lieutenant, Judge Advocate General's Corps, U.S. Navy, Federal Register Liaison Officer.

[FR Doc. E8-14970 Filed 7-1-08; 8:45 am]

BILLING CODE 3810-FF-P